ENVIRONMENTAL PROTECTION AGENCY

[ER-FRL-6684-9]

Environmental Impacts Statements; Notice of Availability

Responsible Agency: Office of Federal Activities, General Information (202) 564-7167 or http://www.epa.gov/compliance/nepa/. Weekly receipt of Environmental Impact Statements. Filed 03/05/2007 through 03/09/2007. Pursuant to 40 CFR 1506.9.

EIS No. 20070088, Draft EIS, AFS, WY, Eagle Prospect Exploratory Wells Project, Proposes to Drill up to 3 Exploratory Oil and Gas Wells, Big Piney Ranger District, Bridger-Teton National Forest, Sublette County, WY, Comment Period Ends: 04/30/2007, Contact: Teresa Trulock 307-367-4326.

EIS No. 20070089, Draft EIS, MMS, 00, Programmatic—Alternative Energy Development and Production and Alternate Use of Facilities on the Outer Continental Shelf, Implementation, Atlantic, Gulf of Mexico, Pacific and Alaska, Comment Period Ends: 05/15/2007, Contact: Mary Boatman 703-787-1662.

EIS No. 20070090, Final EIS, AFS, SD, Dakota Prairie Grasslands Noxious Weed Management Project, Implementation, Billings, Slope, Golden Valley, Sioux, Grant, McHenry, Ransom and Richland Counties, ND and Corson, Perkins, and Ziebach Counties, SD, Wait Period Ends: 04/16/2007, Contact: Sheila McNee 701-250-4443.

EIS No. 20070091, Draft EIS, NPS, MN, Pipestone National Monument General Management Plan, Implementation, Pipestone County, MN, Comment Period Ends: 05/15/2007, Contact: Nick Chevance 402-661-1844.

EIS No. 20070092, Draft Supplement, COE, FL, Central and Southern Florida Project, Tamiami Trail Modifications, Modified Water Deliveries to Everglades National Park, Acquisition of Real Estate Rights to Portions of Privately Owned Properties along the Tamiami Trail, Dade County, FL, Comment Period Ends: 05/07/2007, Contact: Barbara Cintron 904-232-1692.

EIS No. 20070093, Final EIS, CGB, CA, Cabrillo Port Liquefied Natural Gas (LNG) Deepwater Port, Construction and Operation an Offshore Floating Storage and Regasification Unit (FSRU), Application for License, Ventura and Los Angeles Counties, CA, Wait Period Ends: 04/30/2007, Contact: Ray Martin 202-372-1449

EIS No. 20070094, Final EIS, COE, CA, Cajon Third Main Track, Construction from Summit to Keenbrook, Special Use Permit and U.S. Army COE 404 Permit, San Bernardino County, CA, Wait Period Ends: 04/16/2007, Contact: Susan A. Meyer 808-438-2137.

EIS No. 20070095, Final Supplement, AFS, ID, Hidden Cedar Project, Updated Information, Manage Vegetation Conditions and the Transportation System, Idaho Panhandle National Forests, St. Joe Ranger District, Benewah, Latah and Shoshone Counties, ID, Wait Period Ends: 04/16/2007, Contact: Peter Ratcliffe 208-245-2531.

EIS No. 20070096, Draft EIS, USA, MD, Garrison Aberdeen Proving Ground, Base Realignment and Closure Actions, Realignment of Assets and Staff, Implementation, Hartford and Baltimore Counties, MD, Comment Period Ends: 04/30/2007, Contact: Karen Wilson 703-602-2861.

EIS No. 20070097, Draft EIS, NOA, 00, PROGRAMMATIC—Marine Mammal Health and Stranding Response Program (MMHSRP), Day-to-Day Operation on Stranding, Response, Rehabilitation, Release, and Disentanglement Activities, Comment Period Ends: 04/30/2007, Contact: David Cottingham 301-713-2322.

EIS No. 20070098, Draft Supplement, AFS, MT, Frenchtown Face Ecosystem Restoration Project, Additional Information Maintenance and Improvement of Forest Health, Risk Reduction of Damage Insects and Disease, Lolo National Forest, Ninemile Ranger District, Missoula, MT, Comment Period Ends: 04/30/2007, Contact: Gary Edson 406-626-5201.

Amended Notices

EIS No. 20070080, Draft EIS, NIG, CA, Graton Rancheria Casino and Hotel Project, Transfer of Land into Trust, Implementation, Federated Indians of Graton Rancheria (Tribe), Sonoma County, CA, Comment Period Ends: 05/14/2007, Contact: Brad Mehaffy 202-632-7003.

Revision of FR Notice Published 03/09/2007: Extending Comment Period from 04/23/2007 to 05/14/2007 also Correction to Contact Person Name.

Dated: March 13, 2007.
Robert W. Hargrove,
Director, NEPA Compliance Division, Office of Federal Activities.

[FR Doc. E7-4858 Filed 3-15-07; 8:45 am]

BILLING CODE 6560-50-P